DEPARTMENT OF DEFENSE

Department of the Air Force

Office of the Secretary of the Air Force; Acceptance of Group Application Under Pub. L. 95-202 and Department of Defense Directive (DODD) 1000.20

“The U.S. and Foreign Civilian Employees of CAT, Inc., Who Were Flight Crew Personnel (U.S. Pilots, Co-Pilots, Navigators Flight Mechanics, and Air Freight Specialists) and Aviation Ground Support Personnel (U.S. Maintenance Supervisors, Operations Managers, and Flight Information Center Personnel), and Conducted Paramilitary Operations in Korea, French Indochina, Tibet and Indonesia From 1950 Through 1959; and U.S. and Foreign Civilian Employees of Air America Flight Who Were Crew Personnel and Ground Support Personnel, as Described, Who Conducted Paramilitary Operations in Laos From 1961 Through 1974, When the War in Laos Ended; and U.S. and Foreign Civilian Employees of Air America Who Were Flight Crew Personnel and Ground Support Personnel, as Described, and Conducted Paramilitary Operations in Vietnam From 1964 Through 1975, When Saigon Was Evacuated and Air America Flight Operations Ceased”

At the request of the application's author, the Department of Defense Civilian/Military Service Review Board (C/MSRB) has amended the nature of an application and accepted it under the provisions of Section 401, Public Law 95-202 and DoD Directive 1000.20. The application now includes “foreign” employees and, as amended, the C/MSRB has accepted an application on behalf of a group known as: “The U.S. and Foreign Civilian Employees of CAT, Inc., Who Were Flight Crew Personnel (U.S. Pilots, Co-Pilots, Navigators, Flight Mechanics, and Air Freight Specialists) and Aviation Ground Support Personnel (U.S. Maintenance Supervisors, Operations Managers, and Flight Information Center Personnel) and Conducted Paramilitary Operations in Korea, French Indochina, Tibet and Indonesia From 1950 Through 1959; and U.S. and Foreign Civilian Employees of Air America Who Were Flight Crew Personnel and Ground Support Personnel, as Described, and Conducted Paramilitary Operations in Laos from 1961 Through 1974, When the War in Laos Ended; and U.S. and Foreign Civilian Employees of Air America Who Were Flight Crew Personnel and Ground Support Personnel, as Described, and Conducted Paramilitary Operations in Vietnam From 1964 Through 1975, When Saigon Was Evacuated and Air America Flight Operations Ceased.”

Persons with information or documentation pertinent to the determination of whether the service of this group should be considered active military service to the Armed Forces of the United States are encouraged to submit such information or documentation within 60 days to the DoD Civilian/Military Service Review Board, 1535 Command Drive, EE-Wing, 3rd Floor, Andrews AFB, MD 20762-7002. Copies of documents or other materials submitted cannot be returned.

Pamela D. Fitzgerald,
Air Force Federal Register Liaison Officer.

[FR Doc. 04-861 Filed 1-14-04; 8:45 am]

BILLING CODE 5001-05-P